Proclamation 8187 of October 4, 2007

Leif Erikson Day, 2007

By the President of the United States of America

A Proclamation

On Leif Erikson Day, we commemorate the enduring legacy of a brave explorer and honor the significant contributions of Nordic Americans who continue to enrich our culture and our way of life.

Leif Erikson, a son of Iceland and grandson of Norway, led a determined crew across the Atlantic more than 1,000 years ago and became one of the first Europeans known to reach North America. The courage of these pioneers helped open the world to new exploration and important discoveries. Today, Nordic Americans help strengthen our country, and their determination and optimism make America a more hopeful land. Our Nation continues to benefit from strong ties with Denmark, Finland, Iceland, Norway, and Sweden, and we are grateful for their continued friendship.

To honor Leif Erikson and to celebrate our citizens of Nordic-American heritage, the Congress, by joint resolution (Public Law 88-566) approved on September 2, 1964, has authorized the President to proclaim October 9 of each year as “Leif Erikson Day.”

NOW, THEREFORE, I, GEORGE W. BUSH, President of the United States of America, do hereby proclaim October 9, 2007, as Leif Erikson Day. I call upon all Americans to observe this day with appropriate ceremonies, activities, and programs to honor our rich Nordic-American heritage.

IN WITNESS WHEREOF, I have hereunto set my hand this fourth day of October, in the year of our Lord two thousand seven, and of the Independence of the United States of America the two hundred and thirty-second.

[FR Doc. 07-5008

Filed 10-5-07; 8:55 am]

Billing code 3195-01-P